DEPARTMENT OF THE INTERIOR

Minerals Management Service

Environmental Documents Prepared for Proposed Oil and Gas Operations on the Alaskan Outer Continental Shelf (OCS)

AGENCY: Minerals Management Service (MMS), Interior.

ACTION: Notice of the availability of environmental documents.

SUMMARY: The Minerals Management Service, in accordance with Federal Regulations that implement the National Environmental Policy Act (NEPA), announces the availability of NEPA-related Categorical Exclusion Reviews (CERs)/Environmental Assessments (EAs) and Findings of No Significant Impact (FONSI), prepared by MMS for the following oil and gas activities proposed on the Alaskan OCS.

FOR FURTHER INFORMATION CONTACT: Minerals Management Service, Alaska OCS Region, Attention: Ms. Nikki Lewis, Resource Center, 949 East 36th Avenue, Room 330, Anchorage, Alaska, telephone (907) 271-6438 or 1-800-764-2627.

SUPPLEMENTARY INFORMATION: MMS prepares CERs/EAs and FONSIs for proposals that relate to exploration for and the development/production of oil and gas resources on the Alaskan OCS. These CERs/EAs examine the potential environmental effects of activities described in the proposals and present MMS conclusions regarding the significance of those effects. CERs/EAs are used as a basis for determining whether or not approvals of the proposals constitute major Federal actions that significantly affect the quality of the human environment in the sense of NEPA Section 102(2)(C). A FONSI is prepared in those instances where MMS finds that approval will not result in significant effects on the quality of the human environment. The FONSI briefly presents the basis for that finding and includes a summary or copy of the CER.

This notice constitutes the public notice of availability of environmental documents required under the NEPA Regulations.

This listing includes all proposals for which the Alaska OCS Region prepared a FONSI in the period subsequent to publication of the preceding notice.

Activity/operator | Location | Date
Veritas DGC for Conoco/Phillips Alaska, winter over-ice 3-D vibrosis (winter seismic survey); CER review of OCS G&G Permit Application No. 04-01 | Between Eskimo Islands and the Nechelik Channel of the Colville River and southern Harrison Bay (100-200 sq. miles overall, but only 5-10 sq. miles on the Federal OCS) | 03/31/04

Persons interested in reviewing environmental documents for the proposals listed above or obtaining information about CERs/EAs and FONSIs prepared for activities on the Alaska OCS are encouraged to contact MMS at the address or telephone listed in the FOR FURTHER INFORMATION CONTACT section of this notice.

Dated: July 16, 2004.
Thomas A. Readinger,
Associate Director for Offshore Minerals Management.

[FR Doc. 04-19226 Filed 8-20-04; 8:45 am]

BILLING CODE 4310-MR-P